ENVIRONMENTAL PROTECTION AGENCY

40 CFR Part 52

[PA160-4107a; FRL-6962-3]

Approval and Promulgation of Air Quality Implementation Plans; Commonwealth of Pennsylvania; Gasoline Volatility Requirements for Allegheny County

AGENCY: Environmental Protection Agency (EPA).

ACTION: Direct final rule.

SUMMARY: EPA is approving revisions to the Allegheny County portion of the Commonwealth of Pennsylvania State Implementation Plan (SIP). These revisions were submitted on March 23, 2000 by the Pennsylvania Department of Environmental Protection (PADEP) on behalf of the Allegheny County Health Department (ACHD). These revisions amend Allegheny County's general rules for use of cleaner gasoline and codify changes to its gasoline volatility regulations to be consistent with the Commonwealth's SIP-approved regulations which currently apply throughout the Pittsburgh-Beaver Valley ozone nonattainment area, including in Allegheny County. The revisions consist of the establishment of a Reid vapor pressure (RVP) limit of 7.8 pounds per square inch (psi) for gasoline sold in Allegheny County, Pennsylvania. EPA is approving these revisions to the Allegheny County portion of the Commonwealth of Pennsylvania SIP in accordance with the requirements of the Clean Air Act.

DATES: This rule is effective on June 18, 2001 without further notice, unless EPA receives adverse written comment by May 17, 2001. If adverse comment is received, EPA will publish a timely withdrawal of the direct final rule in the Federal Register and inform the public that the rule will not take effect.

ADDRESSES: Send written comments to David L. Arnold, Chief, Air Quality Planning & Information Services Branch, mail code 3AP21, U.S. Environmental Protection Agency, Region III, 1650 Arch Street, Philadelphia, Pennsylvania 19103. You may inspect copies of the documents relevant to this action during normal business hours at the following locations: Air Protection Division, U.S. Environmental Protection Agency, Region III, 1650 Arch Street, Philadelphia, Pennsylvania 19103; the Air and Radiation Docket and Information Center, U.S. Environmental Protection Agency, 401 M Street, SW, Washington, DC 20460; and the Allegheny County Health Department, Bureau of Environmental Quality, Division of Air Quality, 301 39th Street, Pittsburgh, Pennsylvania 15201.

FOR FURTHER INFORMATION CONTACT: Jill Webster, (215) 814-2033, at the EPA Region III address above, or by e-mail at webster.jill@epa.gov.

SUPPLEMENTARY INFORMATION:

I. Description of the SIP Revision and EPA's Action

The information in this section is organized as follows:

A. What Action Is EPA Taking Today?

B. Why Is EPA Taking This Action?

C. Why Did Allegheny County Make These Changes?

D. How Did EPA Review Allegheny County's Submittal?

E. Why Is the Request Approvable?

F. What Is the Process for EPA Approval of This Action?

II. Final Action

III. What Are the Administrative Requirements?

What Action Is EPA Taking Today?

EPA is approving revisions to the Allegheny County portion of the Commonwealth of Pennsylvania SIP which were submitted on March 23, 2000 by PADEP on behalf of the ACHD. These revisions will amend the ACHD's Rules and Regulations, Article XXI, Revision 40, sections 2101.20, 2105.90, and 2107.15, regarding gasoline volatility regulations and Revision 42 which codifies changes to the gasoline volatility regulations, to make them consistent with the Commonwealth's gasoline volatility regulations. On June 8, 1998 (63 FR 31116), EPA approved the Commonwealth's SIP revision requiring a summertime gasoline Reid vapor pressure (RVP) limit of 7.8 pounds per square inch (psi) for gasoline sold throughout the Pittsburgh-Beaver Valley ozone nonattainment area, including Allegheny County. Under the revisions, gasoline distributed in Allegheny County must meet a RVP limit of 7.8 psi per gallon between May 1 and September 15 of each calendar year for all refiners, distributors, resellers, carriers, and wholesalers. The restrictions on fuel are effective between June 1 and September 15 of each year for all wholesale purchaser consumers and retailers of gasoline.

Why Is EPA Taking This Action?

EPA is approving these SIP revisions to the Allegheny County portion of the Commonwealth's SIP at the request of the Commonwealth of Pennsylvania. The ACHD revised Allegheny County's Rules and Regulations, Article XXI, Revision 40, sections 2101.20, 2105.90, and 2107.15, regarding gasoline volatility regulations and Revision 42 which codifies changes to the gasoline volatility regulations, to make those County regulations consistent with the Commonwealth's SIP-approved gasoline volatility regulations. As stated above, EPA approved the Commonwealth's gasoline volatility regulations as a SIP revision for the entire Pittsburgh-Beaver Valley ozone nonattainment area on June 8, 1998 (63 FR 31116). The rationale for EPA's action to approve the Commonwealth's gasoline volatility regulations for the Pittsburgh Beaver-Valley ozone nonattainment area were presented in that rulemaking and shall not be restated here. Interested parties may request copies of that rulemaking and its associated technical support document (TSD) from the EPA Regional Office listed in the ADDRESSES section of this document.

Why Did Allegheny County Make These Changes?

The ACHD made revisions to Allegheny County's gasoline volatility regulations to make them consistent with the Commonwealth's approved SIP regulations. Since EPA's June 8, 1998 approval of the Commonwealth's gasoline volatility requirements for the Pittsburgh-Beaver Valley ozone nonattainment area, all refiners, distributors, resellers, carriers, and wholesalers of gasoline in Allegheny County have been directly subject to those Commonwealth regulations under the approved SIP. The intended effect of this action is to approve Allegheny County's revised gasoline regulations such that all refiners, distributors, resellers, carriers, and wholesalers of gasoline in Allegheny County are subject to County regulations and the ACHD has the authority to implement the federally-approved SIP. Both PADEP and ACHD adopted the low RVP gasoline volatility requirements as an emissions reduction strategy necessary for attainment in the Pittsburgh-Beaver Valley ozone nonattainment area.

How Did EPA Review Allegheny County's Submittal?

Allegheny County's SIP revisions were submitted by PADEP on behalf of ACHD on March 23, 2000. EPA evaluated the County's revised gasoline volatility regulations to verify that the revisions were consistent with the Commonwealth's federally approved regulations for the Pittsburgh-Beaver Valley ozone nonattainment area.

Why Is the Request Approvable?

Because EPA previously approved the Commonwealth's low RVP requirements for the Pittsburgh-Beaver Valley ozone nonattainment area, including Allegheny County, the County's revised regulations need only be consistent with the Commonwealth's Federally approved regulations. EPA has determined that ACHD's regulations for gasoline volatility requirements are sufficiently consistent with the Commonwealth's Federally approved regulations to warrant approval of the Commonwealth's request that the Allegheny County portion of the Pennsylvania SIP be revised to include the County's amended regulations such that the ACHD has the authority to implement the federally-approved SIP.

What Is the Process for EPA Approval of This Action?

EPA is publishing this action without prior proposal because EPA views this as a noncontroversial amendment and anticipates no adverse comments. However, in a separate document in this Federal Register publication, EPA is proposing to approve the SIP revision should adverse written comments be filed. This action will be effective on June 18, 2001 without further notice unless EPA receives adverse comment by May 17, 2001. If EPA receives adverse comment, EPA will publish a timely withdrawal in the Federal Register informing the public that the rule will not take effect. EPA will address all public comments in a subsequent final rule based on the proposed rule. EPA will not institute a second comment period on this action. Any parties interested in commenting must do so at this time.

II. Final Action

EPA is approving revisions to the Allegheny County portion of the Commonwealth of Pennsylvania SIP which were submitted on March 23, 2000 by PADEP on behalf of the ACHD. These revisions will amend the ACHD's Rules and Regulations, Article XXI, Revision 40, sections 2101.20, 2105.90, and 2107.15, regarding gasoline volatility regulations and Revision 42 which codifies changes to the gasoline volatility regulations.

III. What Are the Administrative Requirements?

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by June 18, 2001. Filing a petition for reconsideration by the Administrator of this final rule does not affect the finality of this rule for the purposes of judicial review nor does it extend the time within which a petition for judicial review may be filed, and shall not postpone the effectiveness of such rule or action. This action approving the RVP requirements for gasoline sold in Allegheny County, Pennsylvania may not be challenged later in proceedings to enforce its requirements. (See section 307(b)(2).)

List of Subjects in 40 CFR Part 52

Environmental protection, Air pollution control, Hydrocarbons, Incorporation by reference, Intergovernmental relations, Ozone, Reporting and recordkeeping requirements.

Dated: March 19, 2001.
William C. Early,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraphs (c)(151) to read as follows:

§ 52.2020 Identification of plan.

* * * * *

(c) * * *

(151) Revisions to the Allegheny County Air Pollution Control Regulations governing gasoline volatility requirements submitted on March 23, 2000 by the Pennsylvania Department of Environmental Protection:

(i) Incorporation by reference.

(A) Letter of March 23, 2000 from the Pennsylvania Department of Environmental Protection transmitting the revisions to the low RVP gasoline volatility requirements for Allegheny County, Pennsylvania.

(B) The following revision to Article XXI, Rules and Regulations of the Allegheny County Health Department, effective May 15, 1998.

(1) Regulation 2101.20—definitions of “carrier,” “distributor,” “importer,” “low RVP gasoline,” “oxygenate,” “refiner,” “refinery,” “reseller,” “retail outlet,” “retailer,” “RFG,” “RVP,” “terminal,” “wholesale purchaser-consumer.”

(2) Regulation 2107.15—Gasoline Volatility and RFG Methods.

(3) Regulation 2105.90—Gasoline Volatility, Paragraphs a and b.

(C) The following revision to Article XXI, Rules and Regulations of the Allegheny County Health Department, effective September 1, 1999.

(1) Regulation 2101.20—definition of “compliant fuel.”

(2) Regulation 2105.90—Gasoline Volatility, Paragraphs c, d, and e.

(ii) Remainder of the March 23, 2000 submittal pertaining to Article XXI, regulations 2101.20, 2105.09, and 2107.15 as described above.

[FR Doc. 01-9357 Filed 4-16-01; 8:45 am]

BILLING CODE 6560-50-P